DEPARTMENT OF THE INTERIOR

Bureau of Land Management

[CO-930-1430-ET; COC-61608]

Public Land Order No. 7455; Withdrawal of Public Land for the Saguache Smelter Site, Colorado

AGENCY: Bureau of Land Management, Interior.

ACTION: Public land order.

SUMMARY: This order withdraws 60 acres of public land from surface entry and mining for a period of 20 years for the Bureau of Land Management to protect the Saguache Smelter Site. The land has been and will remain open to mineral leasing.

EFFECTIVE DATE: June 30, 2000.

FOR FURTHER INFORMATION CONTACT: Doris E. Chelius, BLM Colorado State Office, 2850 Youngfield Street, Lakewood, Colorado 80215-7076, 303-239-3706.

By virtue of the authority vested in the Secretary of the Interior by Section 204 of the Federal Land Policy and Management Act of 1976, 43 U.S.C. 1714 (1994), it is ordered as follows:

1. Subject to valid existing rights, the following described public land is hereby withdrawn from settlement, sale, location, or entry under the general land laws, including the United Stated mining laws (30 U.S.C. Ch. 2, (1994)), but not from leasing under the mineral leasing laws, for the Bureau of Land Management to protect the Saguache Smelter Site:

New Mexico Principal Meridian

T. 45 N., R. 7 E.,

Sec. 26, S½S½S½SE¼;

Sec. 35, N½N½NE¼.

The area described contains 60 acres in Saguache County.

2. The withdrawal made by this order does not alter the applicability of those public land laws governing the use of the land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f) (1994), the Secretary determines that the withdrawal shall be extended.

Dated: June 7, 2000.
Sylvia V. Baca,
Assistant Secretary of the Interior.

[FR Doc. 00-16602 Filed 6-29-00; 8:45 am]

BILLING CODE 4310-JB-P